FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012042-007.

Title: MOL/ELJSA Slot Exchange Agreement.

Parties: Evergreen Line Joint Service Agreement and Mitsui O.S.K. Lines, Ltd.

Filing Party: Robert Yoshitomi, Esq.; Nixon Peabody, LLP; Gas Company Tower; 555 West Fifth Street 46th Floor; Los Angeles, CA 90013.

Synopsis: The amendment reduces the geographic scope of the agreement, revises the number of slots exchanged, and revises the termination provision and other terms.

Agreement No.: 012303.

Title: HLAG/Norasia Space Charter Agreement.

Parties: Hapag-Lloyd AG and Norasia Container Lines Limited.

Filing Party: Wayne Rohde, Esq.; Cozen O'Connor; 1627 I Street NW., Suite 1100; Washington, DC 20006.

Synopsis: The agreement authorizes Hapag-Lloyd to charter space to Norasia in the trade between Puerto Rico and the Caribbean Coast of Colombia.

Agreement No.: 012304.

Title: Hanjin/UASC/CMA CGM/CSCL Vessel Sharing and Slot Charter Agreement.

Parties: Hanjin Shipping Co., Ltd.; United Arab Shipping Co, S.A.G.; CMA CGM S.A.; and China Shipping Container Lines Co., Ltd. and China Shipping Container Lines (Hong Kong) Co., Ltd. (collectively “CSCL”).

Filing Party: Mark J. Fink, Esq. and Joshua Stein, Esq.; Cozen O'Connor; 1627 I Street NW., Suite 1100; Washington, DC 20006.

Synopsis: The agreement would authorize the parties to cooperate through a combination of vessel sharing and slot charter arrangements on routes between ports in the United Arab Emirates, Pakistan, India, Saudi Arabia, Egypt, Italy, France, Spain, Morocco, and Malta, on the one hand, and the U.S. East Coast, on the other hand.

Agreement No.: 012305.

Title: Siem Car Carriers AS/Nippon Yusen Kaisha Space Charter Agreement.

Parties: Siem Car Carriers AS and Nippon Yusen Kaisha.

Filing Party: Ashley W. Craig, Esq. and Elizabeth K. Lowe, Esq.; Venable LLP; 575 Seventh Street NW., Washington, DC 20004.

Synopsis: The agreement authorizes the parties to engage in a limited range of cooperative activities, including but not limited to, vessel space chartering in the trade between South Korea, Japan, China, Hong Kong, and Mexico, on the one hand, and the U.S. East and West Coasts, on the other hand.

By Order of the Federal Maritime Commission.
Dated: November 21, 2014.
Rachel E. Dickon,
Assistant Secretary.

[FR Doc. 2014-28002 Filed 11-25-14; 8:45 am]

BILLING CODE 6730-01-P